DEPARTMENT OF TRANSPORTATION

Federal Aviation Administration

14 CFR Part 39

[Docket No. 2000-NM-163-AD; Amendment 39-12426; AD 2001-17-34]

RIN 2120-AA64

Airworthiness Directives; McDonnell Douglas Model DC-9-81, -82, -83, and -87 Series Airplanes, and Model MD-88 Airplanes

AGENCY: Federal Aviation Administration, DOT.

ACTION: Final rule.

SUMMARY: This amendment supersedes an existing airworthiness directive (AD), applicable to certain McDonnell Douglas Model DC-9-81, -82, -83, and -87 series airplanes, and Model MD-88 airplanes, that currently requires an inspection to detect damage, burn marks, or discoloration at certain electrical plugs and receptacles of the sidewall lighting in the passenger cabin, and correction of discrepancies. That AD also requires modification of the electrical connectors, which terminates the inspection requirement. That action was prompted by reports of failures of the electrical connectors in the sidewall fluorescent lighting, which resulted in smoke or lighting interruption in the passenger cabin. This amendment expands the applicability of the existing AD to include additional airplanes. This amendment is intended to prevent failures of the electrical connectors, which could result in poor socket/pin contact, excessive heat, electrical arcing, and subsequently, connector burn-through and smoke and/or fire in the passenger cabin.

DATES: Effective October 4, 2001.

The incorporation by reference of certain publications listed in the regulations is approved by the Director of the Federal Register as of October 4, 2001.

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Elvin Wheeler, Aerospace Engineer, Systems and Equipment Branch, ANM-130L, FAA, Los Angeles Aircraft Certification Office, 3960 Paramount Boulevard, Lakewood, California 90712; telephone (562) 627-5344; fax (562) 627-5210.

SUPPLEMENTARY INFORMATION: A proposal to amend part 39 of the Federal Aviation Regulations (14 CFR part 39) by superseding AD 95-19-09, amendment 39-9371 (60 FR 48639, September 20, 1995), which is applicable to certain McDonnell Douglas Model DC-9-81, -82, -83, and -87 series airplanes, and Model MD-88 airplanes, was published in the Federal Register on June 5, 2001 (66 FR 30095). That action proposed to require an inspection to detect damage, burn marks, or discoloration at certain electrical plugs and receptacles of the sidewall lighting in the passenger cabin, and correction of discrepancies. That action also proposed to require modification of the electrical connectors, terminating the inspection requirement. That action also proposed to expand the applicability of the existing AD to include additional airplanes.

Comments

Interested persons have been afforded an opportunity to participate in the making of this amendment. Due consideration has been given to the three comments received.

Two airplane operators state that they have previously accomplished the actions required by the proposed AD and, therefore, would not be affected by the proposed AD. A third operator states that it does not own or operate any of the equipment affected by the proposed AD and, therefore, has no comments to offer.

Conclusion

After careful review of the available data, including the comments noted above, the FAA has determined that air safety and the public interest require the adoption of the rule as proposed.

Cost Impact

There are approximately 970 Model DC-9-81, -82, -83, and -87 series airplanes, and Model MD-88 airplanes of the affected design in the worldwide fleet. The FAA estimates that 470 airplanes of U.S. registry will be affected by this AD, that it will take approximately between 24 and 31 work hours per airplane to accomplish the required actions, and that the average labor rate is $60 per work hour. Required parts will cost approximately $1,199 per airplane. Based on these figures, the cost impact of the AD on U.S. operators is estimated to be between $1,240,330, and $1,437,730, or between $2,639, and $3,059 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-9371 (60 FR 48639, September 20, 1995), and by adding a new airworthiness directive (AD), amendment 39-12426, to read as follows:

2001-17-34 McDonnell Douglas: Amendment 39-12426. Docket 2000-NM-163-AD. Supersedes AD 95-19-09, Amendment 39-9371.

Applicability: Model DC-9-81, -82, -83, and -87 series airplanes, and Model MD-88 airplanes, as listed in Boeing Alert Service Bulletin MD80-33A099, Revision 03, dated January 27, 2000; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

Note 2: Actions required by this AD that were done before the effective date of this AD per McDonnell Douglas MD-80 Service Bulletin 33-99, Revision 1, dated February 23, 1995; or Revision 02, dated December 15, 1995; are considered acceptable for compliance with the requirements of this AD.

To prevent failures of the electrical connectors, which could result in poor socket/pin contact, excessive heat, electrical arcing, and subsequently, connector burn-through and smoke and/or fire in the passenger cabin, accomplish the following:

General Visual Inspection

(a) Perform a general visual inspection to detect damage, burn marks, or black or brown discoloration caused by electrical arcing at electrical plugs, having part number (P/N) MS3126F-15P, and receptacles, having P/N MS3124E-15S, of the sidewall lighting in the passenger cabin, per Boeing Alert Service Bulletin MD80-33A099, Revision 03, dated January 27, 2000; at the applicable time indicated in Table 1 of this AD, below:

Table 1.—Inspection Compliance Times
Affected airplanes | Compliance time
(1) DC-9-81, -82, -83, and -87 series airplanes, and MD-88 airplanes, serial numbers 49614, 49626 through 49632 inclusive, 49668, and 49707 | Within 18 months after October 5, 1995 (the effective date of AD 95-19-09).
(2) Other than those airplanes identified in paragraph (a)(1) of this AD | Within 18 months after the effective date of this AD.

Note 3: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Corrective Action

(b) If any discrepancy is found during the inspection required by paragraph (a) of this AD, before further flight, replace the damaged connectors, pins, sockets, or wires with new parts, per Boeing Alert Service Bulletin MD80-33A099, Revision 03, dated January 27, 2000.

Modification

(c) At the applicable time indicated in Table 1 of this AD, modify the electrical connectors of the sidewall lighting in the passenger cabin, per Boeing Alert Service Bulletin MD80-33A099, Revision 03, dated January 27, 2000. Accomplishment of this modification constitutes compliance with the requirements of this AD.

Alternative Methods of Compliance

(d) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 4: Information concerning the existence of approved alternative methods of compliance with this AD, if any, may be obtained from the Los Angeles ACO.

Special Flight Permits

(e) Special flight permits may be issued in accordance with sections 21.197 and 21.199 of the Federal Aviation Regulations (14 CFR 21.197 and 21.199) to operate the airplane to a location where the requirements of this AD can be accomplished.

Incorporation by Reference

(f) The actions shall be done in accordance with Boeing Alert Service Bulletin MD80-33A099, Revision 03, dated January 27, 2000. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(g) This amendment becomes effective on October 4, 2001.

Issued in Renton, Washington, on August 22, 2001.
Ali Bahrami,
Acting Manager, Transport Airplane Directorate, Aircraft Certification Service.

[FR Doc. 01-21745 Filed 8-29-01; 8:45 am]

BILLING CODE 4910-13-P